SMALL BUSINESS ADMINISTRATION

13 CFR Parts 121, 125, 127 and 134

RIN 3245-AF40

Women-Owned Small Business Federal Contract Assistance Procedures

AGENCY: U.S. Small Business Administration (SBA).

ACTION: Proposed rule, notice of reopening of comment period and correction.

SUMMARY: SBA is reopening the comment period for an additional 30 days and making two technical corrections.

DATES: Comments on the proposed rule on Women-Owned Small Business Federal Contract Assistance Procedures (72 FR 73285), must be received on or before March 31, 2008.

ADDRESSES: You may submit comments, identified by 3245-AF40, by any of the following methods:

• Federal eRulemaking Portal: http://www.regulations.gov. Follow the instructions for submitting comments.

• Mail, Hand Delivery/Courier: Robert C. Taylor, Office of Contract Assistance, Office of Government Contracting, U.S. Small Business Administration, 409 3rd Street, SW., Washington, DC 20416.

All comments will be posted on http://www.regulations.gov. If you wish to submit confidential business information (CBI) as defined in the User Notice at http://www.regulations.gov, please submit the comments to Robert C. Taylor and highlight the information that you consider to be CBI and explain why you believe this information should be held confidential. SBA will make a final determination as to whether the comments will be published or not.

FOR FURTHER INFORMATION CONTACT: Robert C. Taylor, Office of Contract Assistance, Office of Government Contracting, (202) 205-7319, WOSBProposedRegulation@sba.gov.

SUPPLEMENTARY INFORMATION: On December 27, 2007, SBA published in the Federal Register a proposed rule on Women-Owned Small Business Federal Contract Assistance Procedures (72 FR 73285). This proposed rule would add a new part to SBA's regulations that would implement procedures to increase procurement opportunities for Women-Owned Small Business Concerns, as authorized under the Small Business Act. It would also make the relevant conforming amendments to SBA's current procurement regulations. The original comment period was from December 27, 2007, through February 25, 2008. SBA is reopening the comment period for a limited time until March 31, 2008 for the following reasons. First, this will accommodate the great level of interest that the proposed rule has generated and the requests to extend the comment period. Furthermore, SBA is making two necessary technical corrections to the proposed rule. The first correction is in the ADDRESSES section of the proposed rule and amends the Federal eRulemaking Portal Web address and all references to that Web address to read http://www.regulations.gov. Finally, SBA is amending the words of issuance to further emphasize that this is a proposed rule.

In SBA's docket Id fr27de07-17 appearing on page 73286 in the Federal Register on December 27, 2007, the ADDRESSES section is corrected to read as follows:

ADDRESSES: You may submit comments, identified by 3245-AF40, by any of the following methods:

• Federal eRulemaking Portal: http://www.regulations.gov. Follow the instructions for submitting comments.

• Mail, Hand Delivery/Courier: Robert C. Taylor, Office of Contract Assistance, Office of Government Contracting, U.S. Small Business Administration, 409 3rd Street, SW., Washington, DC 20416.

All comments will be posted on http://www.regulations.gov. If you wish to submit confidential business information (CBI) as defined in the User Notice at http://www.regulations.gov, please submit the comments to Robert C. Taylor and highlight the information that you consider to be CBI and explain why you believe this information should be held confidential. SBA will make a final determination as to whether the comments will be published or not.

Furthermore on page 73295 in the Federal Register (72 FR 73285), the words of issuance are corrected to read as follows: Accordingly, for the reasons stated in the preamble, SBA proposes to amend 13 CFR parts 121, 125, 127 and 134 as follows:

(Authority: 15 U.S.C. 634)

Dated: February 25, 2008.
Fay E. Ott,
Associate Administrator for Government Contracting and Business Development.

[FR Doc. E8-3889 Filed 2-27-08; 8:45 am]

BILLING CODE 8025-01-P